DEPARTMENT OF DEFENSE

Office of Secretary

[DoD-2007-OS-0050]

Privacy Act of 1974; System of Records

AGENCY: Defense Contract Management Agency, DoD.

ACTION: Notice to amend system of records.

SUMMARY: The Defense Contract Management Agency is amending a system of records notice in its existing inventory of record systems subject to the Privacy Act of 1974, (5 U.S.C. 552a), as amended.

DATES: This proposed action will be effective without further notice on June 25, 2007 unless comments are received which result in a contrary determination.

ADDRESSES: Send comments to the Defense Contract Management Agency (DSE), PA/FOIA Office, 6350 Walker Lane, #300, Alexandria, VA 22310-3226.

FOR FURTHER INFORMATION CONTACT: Ms. Cathy Alphin, (703) 428-1453.

SUPPLEMENTARY INFORMATION: The Defense Contract Management Agency systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: May 21, 2007.
L.M. Bynum,
Alternate OSD Federal Register Liaison Officer, Department of Defense.

S850.10 DCMC-Q

System name:

Contractor Flight Operations (November 16, 2004, 69 FR 67112).

Changes:

System identifier:

Delete and replace with “PDCMA 1 DoD”.

System name:

Delete entry and replace with “Contractor's Flight and Ground Operations.”

System location:

Delete and replace with “All Defense Contract Management Agency (DCMA) activities that approve contractor aircraft flight and ground operations procedures or utilize contractor personnel who operate aircraft for the government. Contact HQ DCMA-AO, 6350 Walker Lane, Alexandria, VA 22310-3241 for a list of current system locations.”

Categories of individuals covered by the system:

Delete entry and replace with “Civilian personnel who are contractors that operates aircraft for the Defense Contract Management Agency for which the government assumes some risk of loss or damage. It covers both flight crewmember and non-crewmember personnel designated by a contractor to conduct flights, perform functions while the aircraft is in flight, or perform ground operations in support of such flights.”

* * * * *

Authority for maintenance of the system:

Delete entry and replace with “10 U.S.C. 136, Assistant Secretaries of Defense; 10 U.S.C. 3013, Secretary of the Army; 10 U.S.C. 5013, Secretary of the Navy; 10 U.S.C. 8013, Secretary of the Air Force; DCMA Instruction 8210.1, ARJI 10-220, AR 95-20, NAVAIRINST 3710.1E, Contractor's Flight and Ground Operations; and E.O. 9397 (SSN).”

* * * * *

Routine uses of records maintained in the system, including categories of users and the purposes of the uses:

Delete from entry “Information from this system may be disclosed.”

Delete entry and replace with “The DoD `Blanket Routine Uses' apply to this system of records.”

Storage:

Delete entry and replace with “Paper records in file folders and electronic storage media.”

Retrievability:

Delete entry and replace with “Individual's name and Social Security Number (SSN).”

* * * * *

System manager(s) and address:

Delete entry and replace with “HQ, Defense Contract Management Agency, Policy and Training Director, DCMA-AO, 6350 Walker Lane, Alexandria, VA 22310-3241.

Notification procedure:

Delete entry and replace with “Individuals seeking to determine whether information about themselves is contained in this system of records should address written inquiries to the Privacy Act Officer, DCMA-AO, 6350 Walker Lane, Alexandria, VA 22310-3241.”

Requests should contain “Individual's name and Social Security Number (SSN).”

Record access procedures:

Delete entry and replace with “Individuals seeking access to information about themselves contained in this system of records should address written inquiries to the Privacy Act Officer, DCMA-AO, 6350 Walker Lane, Alexandria, VA 22310-3241.

Requests should contain Individual's name and Social Security Number (SSN).”

Contesting record procedures:

Delete entry and replace with “The Defense Contract Management Agency rules for accessing records, for contesting contents, and for appealing initial agency determination can be obtained from the Privacy Act Officer, DCMA-AO, 6350 Walker Lane, Alexandria, VA 22310-3241”.

* * * * *

PDCMA 1 DoD

System name:

Contractor's Flight and Ground Operations.

System location:

All Defense Contract Management Agency (DCMA) activities that approve contractor aircraft flight and ground operations procedures or utilize contractor personnel who operate aircraft for the government. Contact HQ DCMA-AO, 6350 Walker Lane, Alexandria, VA 22310-3241 for a list of current system locations.

Categories of individuals covered by the system:

Civilian personnel who are contractors that operates aircraft for the Defense Contract Management Agency for which the government assumes some risk of loss or damage. It covers both flight crewmember and non-crewmember personnel designated by a contractor to conduct flights, perform functions while the aircraft is in flight, or perform ground operations in support of such flights.

Categories of records in the system:

Name, Social Security Number (SSN), home address and telephone number, date of birth, security clearance data, education, military service data, flight qualification, proficiency, training, and experience records, standardization and evaluation data, safety and mishap records, medical and physiological data, and similar data.

Authority for maintenance of the system:

10 U.S.C. 136, Assistant Secretaries of Defense; 10 U.S.C. 3013, Secretary of the Army; 10 U.S.C. 5013, Secretary of the Navy; 10 U.S.C. 8013, Secretary of the Air Force; DCMA Instruction 8210.1, ARJI 10-220, AR 95-20, NAVAIRINST 3710.1E, Contractor's Flight and Ground Operations; and E.O. 9397 (SSN).

Purpose(s):

Used to monitor and manage individual contractor flight and ground personnel records.

Routine uses of records maintained in the system, including categories of users and the purposes of the uses:

In addition to the disclosures generally permitted under 5 U.S.C. 552a(b) of the Privacy Act, these records or information contained therein may specifically be disclosed outside the DoD as a routine use pursuant to 5 U.S.C. 552a(b)(3) as follows:

To the Federal Aviation Agency or the appropriate civil aviation authority or foreign military department in the course of certifying individuals, investigative flight mishaps, and conducting rescue operations.

The DoD “Blanket Routine Uses” apply to this system of records.

Policies and practices for storing, retrieving, accessing, retaining, and disposing of records in the system:

Storage:

Paper records in file folders and electronic storage media.

Retrievability:

Individual's name and/or Social Security Number (SSN).

Safeguards:

Records are accessed by custodian of the records or by persons responsible for servicing the record system in performance of their actual duties that are properly screened and cleared for need-to-know. Records are stored in locked cabinets and rooms are controlled by personnel screening and computer software.

Retention and disposal:

Records are maintained in the system until contract termination, at which time they will be destroyed if no longer needed.

System manager(s) and address:

HQ, Defense Contract Management Agency, Policy and Training Director, DCMA-AO, 6350 Walker Lane, Alexandria, VA 22310-3241.

Notification procedure:

Individuals seeking to determine whether information about themselves is contained in this system of records should address written inquiries to the Privacy Act Officer, DCMA-DSE, 6350 Walker Lane, Alexandria, VA 22310-3241.

Requests should contain individual's name and Social Security Number (SSN).

Record access procedures:

Individuals seeking access to information about themselves contained in this system of records should address written inquiries to the Privacy Act Officer, DCMA-AO, 6350 Walker Lane, Alexandria, VA 22310-3241.

Requests should contain individual's name and Social Security Number (SSN).

For personal visits, the individual may be asked to show a valid identification card, a drivers' license, or some similar proof of identity.

Contesting record procedures:

The Defense Contract Management Agency rules for accessing records, for contesting contents, and for appealing initial agency determination can be obtained from the Privacy Act Officer, DCMA-AO, 6350 Walker Lane, Alexandria, VA 22310-3241.

Record source categories:

Information is provided by the individual or from training, evaluation, and examination records.

Exemptions claimed for the system:

None.

[FR Doc. E7-10112 Filed 5-24-07; 8:45 am]

BILLING CODE 5001-06-P